DEPARTMENT OF THE INTERIOR

Bureau of Ocean Energy Management

MMAA104000

Environmental Documents Prepared for Oil, Gas, and Mineral Operations by the Gulf of Mexico Outer Continental Shelf (OCS) Region

AGENCY: Bureau of Ocean Energy Management (BOEM), Interior.

ACTION: Notice of the Availability of Environmental Documents Prepared for OCS Mineral Proposals by the Gulf of Mexico OCS Region.

SUMMARY: BOEM, in accordance with Federal Regulations that implement the National Environmental Policy Act (NEPA), announces the availability of NEPA-related Site-Specific Environmental Assessments (SEAs) and Findings of No Significant Impact (FONSIs). These documents were prepared during the period January 1, 2013, through March 31, 2013, for oil, gas, and mineral-related activities that were proposed in the Gulf of Mexico, and are more specifically described in the Supplementary Information Section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. The SEAs are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA. This notice constitutes the public notice of availability of environmental documents required under the NEPA Regulations.

Activity/operator | Location | Date
Apache Corporation, Structure Removal, SEA ES/SR 13-006 | East Cameron, Block 48, Lease OCS-G 00768, located 18 miles from the nearest Louisiana shoreline | 1/7/2013
Tana Exploration Company LLC, Structure Removal, SEA ES/SR 13-008 | Eugene Island, Block 98, Lease OCS-G 26023, located 20 miles from the nearest Louisiana shoreline | 1/7/2013
Apache Corporation, Structure Removal, SEA ES/SR 12-310 | High Island, Block 176, Lease OCS-G 23588, located 23 miles from the nearest Louisiana shoreline | 1/8/2013
Mariner Energy Resources, Inc., Structure Removal, SEA ES/SR 12-302 | High Island, Block 47, Lease OCS-G 23193, located 16 miles from the nearest Texas shoreline | 1/8/2013
Noble Energy, Inc., Exploration Plan, SEA R-5764 | Mississippi Canyon, Block 948, Lease OCS-G 28030, located 62 miles from the nearest Louisiana shoreline | 1/8/2013
Apache Corporation, Structure Removal, SEA ES/SR 12-306 | Mobile, Block 830, Lease OCS-G 27973, located 5 miles from the nearest Alabama shoreline | 1/8/2013
Black Elk Energy Offshore Operations, LLC, Structure Removal, SEA ES/SR 13-001 | East Cameron, Block 160, Lease OCS-G 00541, located 44 miles from the nearest Louisiana shoreline | 1/9/2013
Black Elk Energy Offshore Operations, LLC, Structure Removal, SEA ES/SR 13-002 | East Cameron, Block 160, Lease OCS-G 00541, located 45 miles from the nearest Louisiana shoreline | 1/9/2013
Arena Offshore, LP, Structure Removal, SEA ES/SR 12-324 | High Island, Block A515, Lease OCS-G 24415, located 86 miles from the nearest Louisiana shoreline | 1/9/2013
Apache Corporation, Structure Removal, SEA ES/SR 12-311 | Main Pass, Block 104, Lease OCS-G 13960, located 9 miles from the nearest Louisiana shoreline | 1/9/2013
Apache Corporation, Structure Removal, SEA ES/SR 12-315 | Main Pass, Block 7, Lease OCS-G 21700, located 5 miles from the nearest Louisiana shoreline | 1/9/2013
Pisces Energy LLC, Structure Removal, SEA ES/SR 12-317 | Mustang Island, Block 740, Lease OCS-G 05980, located 230 miles from the nearest Texas shoreline | 1/9/2013
Black Elk Energy Offshore Operations, LLC, Structure Removal, SEA ES/SR 13-003 | West Cameron, Block 20, Lease OCS-G 00680, located 4 miles from the nearest Louisiana shoreline | 1/9/2013
Apache Corporation, Structure Removal, SEA ES/SR 12-307 & 12-308 | Eugene Island, Block 106, Lease OCS-G 17966, located 20 miles from the nearest Louisiana shoreline | 1/10/2013
Dynamic Offshore Resources, LLC, Structure Removal, SEA ES/SR 12-327 | Galveston, Block 223, Lease OCS-G 03738, located 15 miles from the nearest Texas shoreline | 1/10/2013
Arena Offshore, LP, Structure Removal, SEA ES/SR 12-320 | South Timbalier, Block 217, Lease OCS-G 13937, located 44 miles from the nearest Louisiana shoreline | 1/10/2013
Mariner Energy Resources, Inc., Structure Removal, SEA ES/SR 13-009 | Vermilion, Block 102, Lease OCS-G 03393, located 28 miles from the nearest Louisiana shoreline | 1/10/2013
Anglo-Suisse Offshore Partners, LLC, Structure Removal, SEA ES/SR 06-116 | West Delta, Block 117, Lease OCS-G 01101, located 23 miles from the nearest Louisiana shoreline | 1/10/2013
Arena Offshore, LP, Structure Removal, SEA ES/SR 12-321 | Eugene Island, Block 163, Lease OCS-G 17977, located 30 miles from the nearest Louisiana shoreline | 1/14/2013
Arena Offshore, LP, Structure Removal, SEA ES/SR 12-323 | Eugene Island, Block 318, Lease OCS-G 27121, located 63 miles from the nearest Louisiana shoreline | 1/14/2013
ATP Oil & Gas Corporation, Structure Removal, SEA ES/SR 12-283 | South Timbalier, Block 77, Lease OCS-G 04827, located 19 miles from the nearest Louisiana shoreline | 1/14/2013
Apache Corporation, Structure Removal, SEA ES/SR 12-312 & 12-313 | East Cameron, Block 47, Lease OCS-G 00767, located 17 miles from the nearest Louisiana shoreline | 1/15/2013
Apache Corporation, Structure Removal, SEA ES/SR 12-314 | Eugene Island, Block 108, Lease OCS-G 03811, located 23 miles from the nearest Louisiana shoreline | 1/15/2013
Mariner Energy Resources, Inc., Structure Removal, SEA ES/SR 13-010 | High Island, Block 47, Lease OCS-G 23193, located 14 miles from the nearest Texas shoreline | 1/15/2013
Apache Corporation, Structure Removal, SEA ES/SR 12-309 | Main Pass, Block 7, Lease OCS-G 21700, located 4 miles from the nearest Louisiana shoreline | 1/15/2013
LLOG Exploration Offshore, L.L.C., Exploration Plan, SEA R-5774 | Mississippi Canyon, Block 253, Lease OCS-G 24062, located 54 miles from the nearest Louisiana shoreline | 1/15/2013
WesternGeco, LLC, Geological & Geophysical Survey, SEA L12-032 | Walker Ridge, Keathley Canyon, Amery Terrace & Sigsbee Escarpment, located greater than 160 miles from the nearest shoreline | 1/15/2013
Apache Corporation, Structure Removal, SEA ES/SR 12-303, 12-304, & 12-305 | West Cameron, Block 28, Lease OCS-G 16104, located 4 miles from the nearest Louisiana shoreline | 1/15/2013
Dynamic Offshore Resources, LLC, Structure Removal, SEA ES/SR 12-326 | West Cameron, Block 432, Lease OCS-G 23771, located 65 miles from the nearest Louisiana shoreline | 1/15/2013
Shell Offshore Inc., Exploration Plan, SEA R-5737 | Alaminos Canyon, Block 857, Lease OCS-G 17565, located 134 miles from the nearest Louisiana shoreline | 1/17/2013
Arena Offshore, LP, Structure Removal, SEA ES/SR 12-319 | West Delta, Block 42, Lease OCS-G 16470, located 12 miles from the nearest Louisiana shoreline | 1/17/2013
Apache Corporation, Structure Removal, SEA ES/SR 13-007 | Main Pass, Block 104, Lease OCS-G 13960, located 9 miles from the nearest Louisiana shoreline | 1/18/2013
Black Elk Energy Offshore Operations, LLC, Structure Removal, SEA ES/SR 12-328 | South Marsh Island, Block 23, Lease OCS-G 00778, located 41 miles from the nearest Louisiana shoreline | 1/18/2013
WesternGeco, LLC, Geological & Geophysical Survey, SEA L12-036 | Located in the Central Planning Area of the Gulf of Mexico | 1/22/2013
Nexen Petroleum U.S.A. Inc., Structure Removal, SEA ES/SR 13-015 | Vermilion, Block 67, Lease OCS-G 00559, located 15 miles from the nearest Louisiana shoreline | 1/23/2013
Apex Oil & Gas, Inc., Structure Removal, SEA ES/SR 13-019 | Vermillion, Block 129, Lease OCS-G 17898, located 31 miles from the nearest Louisiana shoreline | 1/23/2013
Nexen Petroleum U.S.A. Inc., Structure Removal, SEA ES/SR 13-016 | Vermillion, Block 66, Lease OCS-G 04787, located 14 miles from the nearest Louisiana shoreline | 1/23/2013
Stone Energy Corporation, Structure Removal, SEA ES/SR 97-143A | Vermilion, Block 46, Lease OCS 00079, Located 8 miles from the nearest Louisiana shoreline | 1/24/2013
Walter Oil & Gas Corporation, Exploration Plan, SEA R-5766 | South Timbalier 127, OCS Lease OCS-G 33109, located 22 miles from the nearest Louisiana shoreline | 1/25/2013
Chevron U.S.A. Inc., Structure Removal, SEA ES/SR 13-017 | South Marsh Island, Block 217, Lease OCS-G 00310, located 8 miles from the nearest Louisiana shoreline | 1/28/2013
Chevron U.S.A. Inc., Structure Removal, SEA ES/SR 13-013 & 13-014 | South Marsh, Block 217, Lease OCS-G 00310, located 8 miles from the nearest Louisiana shoreline | 1/28/2013
Black Elk Energy Offshore Operations, LLC, Structure Removal, SEA ES/SR 13-005 | South Timbalier, Block 185, Lease OCS-G 01569, located 40 miles from the nearest Louisiana shoreline | 1/28/2013
WesternGeco, LLC, Geological & Geophysical Survey, SEA L12-001 | Central Planning Area of the Gulf of Mexico, Located 127 miles from the nearest shoreline | 1/29/2013
Chevron U.S.A. Inc., Structure Removal, SEA ES/SR 13-012 | South Marsh Island, Block 217, Lease OCS-G 00310, located 8 miles from the nearestLouisiana shoreline | 1/29/2013
Murphy Exploration & Production Company—USA, Exploration Plan, SEA S-7590 | Mississippi Canyon, Block 538, Lease OCS-G16614, & Mississippi Canyon, Block 582, Lease OCS-G 16623, located 37 miles from the nearest Louisiana shoreline | 1/30/2013
Merit Energy Company, LLC, Structure Removal, SEA ES/SR 13-004 | Galveston, Block 252, Lease OCS-G 11307, located 13 miles from the nearest Louisiana shoreline | 1/31/2013
Shell Offshore Inc., Exploration Plan, SEA R-5772 | Mississippi Canyon, Block 809, Lease OCS-G 05868, located 50 miles from the nearest Louisiana shoreline | 1/31/2013
Dynamic Offshore Resources, LLC, Structure Removal, SEA ES/SR 12-325 | South Marsh Island, Block 109, Lease OCS-G 24873, located 68 miles from the nearest Louisiana shoreline | 1/31/2013
Nexen Petroleum U.S.A. Inc., Structure Removal, SEA ES/SR 13-025 & 13-026 | Vermilion, Block 66, Lease OCS-G 04787, located 15 miles from the nearest Louisiana shoreline | 1/31/2013
Anglo-Suisse Offshore Partners, LLC, Structure Removal, SEA ES/SR 06-112A | West Delta, Block 117, Lease OCS-G 01101, located 23 miles from the nearest Louisiana shoreline | 1/31/2013
Apache Corporation, Structure Removal, SEA ES/SR 13-020 | Matagorda Island, Block 622, Lease OCS-G 05000, located 15 miles from the nearest Texas shoreline | 2/1/2013
Arena Offshore, LP, Structure Removal, SEA ES/SR 12-322 | Eugene Island, Block 314, Lease OCS-G 02111, located 73 miles from the nearest Louisiana shoreline | 2/4/2013
Mariner Energy Resources, Inc., Structure Removal, SEA ES/SR 12-113 | Ship Shoal, Block 295, Lease OCS-G 21116, Located 58 miles from the nearest Louisiana shoreline | 2/4/2013
Dynamic Offshore Resources, LLC, Structure Removal, SEA ES/SR 13-031 | West Cameron, Block 290, Lease OCS-G 04818, located 27 miles from the nearest Louisiana shoreline | 2/4/2013
Stone Energy Corporation, Structure Removal, SEA ES/SR 13-033 | West Cameron, Block 45, Lease OCS 00299, located 7 miles from the nearest Louisiana shoreline | 2/4/2013
Statoil Gulf of Mexico LLC, Exploration Plan, SEA N-9669 | Walker Ridge, Block 970, Lease Number OCS-G 26420, located 219 miles from the nearest Louisiana shoreline | 2/5/2013
Stone Energy Corporation, Structure Removal, SEA ES/SR 13-034 | West Cameron, Block 45, Lease OCS 00300, located 5 miles from the nearest Louisiana shoreline | 2/6/2013
Tesla Offshore, LLC, Geological & Geophysical Survey, SEA L12-010 | Central Planning Area of the Gulf of Mexico, located 4 miles from the nearest shoreline | 2/7/2013
Shell Offshore Inc., Geological & Geophysical Survey, SEA T12-004 | Alaminos Canyon, Western Planning Area of the Gulf of Mexico, located 124 miles from the nearest shoreline | 2/8/2013
Chevron U.S.A. Inc., Structure Removal, SEA ES/SR 13-018 | South Marsh Island, Block 218, Lease OCS-G 00310, located 9 miles from the nearest Louisiana shoreline | 2/11/2013
Apache Corporation, Structure Removal, SEA ES/SR 13-029 | West Cameron, Block 165, Lease OCS-G 00758, located 27 miles from the nearest Louisiana shoreline | 2/11/2013
TGS, Geological & Geophysical Survey, SEA L12-039 | Central Planning Area of the Gulf of Mexico, located 80 miles from the nearest shoreline | 2/13/2013
Arena Offshore, LP, Structure Removal, SEA ES/SR 11-235 | Grand Isle, Block 102, Lease OCS-G 05662, located 47 miles from the nearest Louisiana shoreline | 2/14/2013
Tana Exploration Company, LLC, Exploration Plan, SEA R-5797 | Central Planning Area of the Gulf of Mexico, located 66 miles from the nearest Louisiana shoreline | 2/15/2013
Nexen Petroleum U.S.A. Inc., Structure Removal, SEA ES/SR 13-040 | Vermilion, Block 66, Lease OCS-G 04787, located 15 miles from the nearest Louisiana shoreline | 2/15/2013
Dynamic Offshore Resources, LLC, Structure Removal, SEA ES/SR 13-036 | Ship Shoal, Block 188, Lease OCS-G 22712, located 32 miles from the nearest Louisiana shoreline | 2/19/2013
Shell Offshore Inc., Development Operations Coordination Document, SEA S-7584 | Green Canyon, Block 248, located 91 miles from the nearest Louisiana shoreline | 2/20/2013
Mariner Energy Resources, Inc., Structure Removal, SEA ES/SR 13-039 | Eugene Island, Block 53, Lease OCS-G 00479, located 15 miles from the nearest Louisiana shoreline | 2/21/2013
Anadarko Petroleum Corporation, Exploration Plan, SEA R-5800 | Central Planning Area of the Gulf of Mexico, located 95 miles from the nearest Alabama shoreline | 2/22/2013
Eni US Operating Co. Inc., Development Operations Coordination Document, SEA S-7580 | Lease OCS-G 25142, in the Central Planning Area, located 101 miles from the nearest Louisiana shoreline | 2/22/2013
Chevron U.S.A. Inc., Structure Removal, SEA ES/SR 13-041 | South Timbalier, Block 52, Lease OCS-G 01241, located 13 miles from the nearest Louisiana shoreline | 2/26/2013
Union Oil Company of California, Exploration Plan, SEA R-5814 | Central Planning Area of the Gulf of Mexico, located 182 miles south of the nearest Louisiana shoreline | 2/27/2013
Chevron U.S.A. Inc., Exploration Plan, SEA R-5812 | Central Planning Area of the Gulf of Mexico, located 185 miles from the nearest Louisiana shoreline | 2/27/2013
Chevron U.S.A. Inc., Structure Removal, SEA ES/SR 13-042 | South Timbalier, Block 51, Lease OCS-G 01240, located 11 miles from the nearest Louisiana shoreline | 2/27/2013
Chevron U.S.A. Inc., Structure Removal, SEA ES/SR 13-044 | South Timbalier, Block 51, Lease OCS-G 01240, located 12 miles from the nearest Louisiana shoreline | 2/27/2013
Apache Corporation, Structure Removal, SEA ES/SR 13-045 | West Cameron, Block 575, Lease OCS-G 04844, located 99 miles from the nearest Louisiana shoreline | 3/1/2013
Mariner Energy, Inc., Structure Removal, SEA ES/SR 13-011 | West Cameron, Block 112, Lease OCS-G 21536, located 18 miles from the nearest Louisiana shoreline | 3/4/2013
Stone Energy Corporation, Structure Removal, SEA ES/SR 13-053 | East Cameron, Block 121, Lease OCS-G 22582, located 36 miles from the nearest Louisiana shoreline | 3/6/2013
Energy Partners, Ltd., Structure Removal, SEA ES/SR 13-052 | South Timbalier, Block 185, Lease OCS-G 01569, located 40 miles from the nearest Louisiana shoreline | 3/6/2013
Stone Energy Corporation, Structure Removal, SEA ES/SR 13-046 | West Cameron, Block 45, Lease OCS-G 00300, located 4 miles from the nearest Louisiana shoreline | 3/6/2013
Apache Corporation, Structure Removal, SEA ES/SR 13-048 & 13-049 | West Cameron, Block 575, Lease OCS-G 04844, located 99 miles from the nearest Louisiana shoreline | 3/6/2013
CGG Veritas (US) Inc., Geological & Geophysical Survey, SEA L13-002 | Green Canyon and Walker Ridge in the Central Planning Area of the Gulf of Mexico | 3/7/2013
Energy Partners, Ltd., Structure Removal, SEA ES/SR 12-170 | South Timbalier, Block 46, Lease OCS-G 24955, located 11 miles from the nearest Louisiana shoreline | 3/7/2013
Chevron U.S.A. Inc., Structure Removal, SEA ES/SR 13-043 | South Timbalier, Block 51, Lease OCS-G 01240, located 10 miles from the nearest Louisiana shoreline | 3/11/2013
Chevron U.S.A. Inc., Structure Removal, SEA ES/SR 13-050 | West Cameron, Block 19, Lease OCS-G 21531, located 3 miles from the nearest Louisiana shoreline | 3/11/2013
Linder Oil Company, A Partnership, Structure Removal, SEA ES/SR 13-057 | East Cameron, Block 49, Lease OCS-G 00932, located 16 miles from the nearest Louisiana shoreline | 3/12/2013
Stone Energy Corporation, Structure Removal, SEA ES/SR 13-060 | West Cameron, Block 56, Lease OCS-G 00301, located 7 miles from the nearest Louisiana shoreline | 3/12/2013
Stone Energy Corporation, Structure Removal, SEA ES/SR 91-065 | West Cameron, Block 56, Lease OCS-G 00301, located 7 miles from the nearest Louisiana shoreline | 3/12/2013
Apache Corporation, Structure Removal, SEA ES/SR 12-120 | West Cameron, Block 645, Lease OCS-G 03973, located 115 miles from the nearest Louisiana shoreline | 3/12/2013
Stone Energy Corporation, Structure Removal, SEA ES/SR 13-055 | West Cameron, Block 45, Lease OCS-G 00300, located 4 miles from the nearest Louisiana shoreline | 3/13/2013
Stone Energy Corporation, Structure Removal, SEA ES/SR 06-128 | West Cameron, Block 56, Lease OCS-G 00301, located 7 miles from the nearest Louisiana shoreline | 3/13/2013
Stone Energy Corporation, Structure Removal, SEA ES/SR 13-056 | West Cameron, Block 56, Lease OCS-G 00301, located 7 miles from the nearest Louisiana shoreline | 3/13/2013
Walter Oil & Gas Corporation, Structure Removal, SEA ES/SR 09-155 | Main Pass, Block 313, Lease OCS-G 04127, located 16 miles from the nearest Louisisna shoreline | 3/14/2013
Pisces Energy LLC. Structure Removal, SEA ES/SR 13-047 | South Timbalier, Block 204, Lease OCS-G 16432, located 41 miles from the nearest Louisiana shoreline | 3/14/2013
Dynamic Offshore Resources, LLC, Structure Removal, SEA ES/SR 12-316 | Eugene Island, Block 309, Lease OCS-G 00997, located 70 miles from the nearest Louisiana shoreline | 3/15/2013
Tana Exploration Company LLC, Structure Removal, SEA ES/SR 12-182 | Eugene Island, Block 85, Lease OCS-G 24889, located 18 miles from the nearest Louisiana shoreline | 3/15/2013
Exxon Mobil Corporation, Structure Removal, SEA ES/SR 11-316 | Mississippi Canyon, Block 268, Lease OCS-G 02970, located 29 miles from the nearest Louisiana shoreline | 3/15/2013
Mariner Energy Resources, Inc., Structure Removal, SEA ES/SR 13-037 | West Delta, Block 34, Lease OCS-G 03414, located 10 miles from the nearest Louisiana shoreline | 3/15/2013
Energy XXI GOM, LLC, Structure Removal, SEA ES/SR 13-068 | South Timbalier, Block 21, Lease OCS 00263, located 5 miles from the nearest Louisiana shoreline | 3/18/2013
Magnum Hunter Production, Inc., Structure Removal, SEA ES/SR 11-206 | South Timbalier, Block 265, Lease OCS-G 12980, located 51 miles from the nearest Louisiana shoreline | 3/18/2013
Mariner Energy Resources, Inc., Structure Removal, SEA ES/SR 12-114 | Vermilion, Block 375 Lease OCS-G 14427, located 98 miles from the nearest Louisiana shoreline | 3/18/2013
Stone Energy Corporation, Structure Removal, SEA ES/SR 13-027 | West Cameron, Block 45, Lease OCS 00299, located 5 miles from the nearest Louisiana shoreline | 3/18/2013
Stone Energy Corporation, Structure Removal, SEA ES/SR 13-028 | West Cameron, Block 45, Lease OCS 00300, located 5 miles from the nearest Louisiana shoreline | 3/18/2013
Energy XXI GOM, LLC, Structure Removal, SEA ES/SR 13-071 | South Timbalier, Block 21, Lease OCS 00263, located 3 miles from the nearest Louisiana shoreline | 3/19/2013
Chevron U.S.A. Inc., Structure Removal, SEA ES/SR 13-024 | South Timbalier, Block 51, Lease OCS-G 01240, located 10 miles from the nearest Louisiana shoreline | 3/19/2013
Apache Corporation, Structure Removal, SEA ES/SR 07-137 | West Cameron, Block 148, Lease OCS-G 02640, located 12 miles from the nearest Louisiana shoreline | 3/19/2013
Stone Energy Corporation, Structure Removal, SEA ES/SR 13-051 | West Cameron, Block 45, Lease OCS-G 00300, located 5 miles from the nearest Louisiana shoreline | 3/19/2013
Tana Exploration Company LLC, Structure Removal, SEA ES/SR 13-064 | Main Pass, Block 99, Lease OCS-G 21703, located 18 miles from the nearest Louisiana shoreline | 3/21/2013
Shell Offshore Inc., Exploration Plan, SEA R-5826 | Mississippi Canyon, Block 809, Lease OCS-G 05868, located 54 miles south of the nearest Louisiana shoreline | 3/21/2013
Apache Corporation, Structure Removal, SEA ES/SR 12-115 | Ship Shoal, Block 296, Lease OCS-G 15303, located 60 miles from the nearest Louisiana shoreline | 3/21/2013
Energy XXI GOM, LLC, Structure Removal, SEA ES/SR 13-072 | South Timbalier, Block 21, Lease OCS 00263, located 3 miles from the nearest Louisiana shoreline | 3/21/2013
Energy XXI GOM, LLC, Structure Removal, SEA ES/SR 13-069 | South Timbalier, Block 22, Lease OCS 00165, located 6 miles from the nearest Louisiana shoreline | 3/21/2013
Energy XXI GOM, LLC, Structure Removal, SEA ES/SR 13-075 | South Timbalier, Block 28, Lease OCS-G 01362, located 6 miles from the nearest Louisiana shoreline | 3/21/2013
Statoil Gulf of Mexico LLC, Exploration Plan, SEA R-5824 | Walker Ridge, Block 970, Lease OCS-G 26420, located 218 miles from the nearest Louisiana shoreline | 3/21/2013
Merit Energy Company, LLC, Structure Removal, SEA ES/SR 13-081 | Eugene Island, Block 159, Lease OCS-G 23867, located 38 miles from the nearest Louisiana shoreline | 3/22/2013
Chevron U.S.A. Inc., Structure Removal, SEA ES/SR 98-012 | Vermilion, Block 24, Lease OCS-G 03543, located 4 miles from the nearest Louisiana shoreline | 3/22/2013
Apache Corporation, Structure Removal, SEA ES/SR 13-038 | West Cameron, Block 294, Lease OCS-G 04090, located 29 miles from the nearest Louisiana shoreline | 3/22/2013
Stone Energy Corporation, Structure Removal, SEA ES/SR 13-076 | West Cameron, Block 45, Lease OCS-G 00300, located 5 miles from the nearest Louisiana shoreline | 3/22/2013
Chevron U.S.A. Inc., Structure Removal, SEA ES/SR 13-062 | Main Pass, Block 40, Lease OCS-G 00373, located 11 miles from the nearest Louisiana shoreline | 3/25/2013
Chevron U.S.A. Inc., Structure Removal, SEA ES/SR 13-063 | Main Pass, Block 41, Lease OCS-G 00374, located 10 miles from the nearest Louisiana shoreline | 3/25/2013
Chevron U.S.A. Inc., Structure Removal, SEA ES/SR 13-061 | Main Pass, Block 41, Lease OCS-G 00374, located 11 miles from the nearest Louisiana shoreline | 3/25/2013
Chevron U.S.A. Inc., Structure Removal, SEA ES/SR 13-058 | South Marsh Island, Block 237, Lease OCS-G 00310, located 11 miles from the nearest Louisiana shoreline | 3/25/2013
Union Oil Company of California, Structure Removal, SEA ES/SR 13-065 & 13-066 | West Cameron, Block 196, Lease OCS-G 05292, located 31 miles from the nearest Louisiana shoreline | 3/25/2013
Apache Corporation, Structure Removal, SEA ES/SR 13-082 | Eugene Island, Block 296, Lease OCS-G 02105, located 60 miles from the nearest Louisiana shoreline | 3/26/2013
Chevron U.S.A. Inc., Structure Removal, SEA ES/SR 13-059 | South Marsh Island, Block 237, Lease OCS-G 00310, located 11 miles from the nearest Louisiana shoreline | 3/26/2013
Energy XXI GOM, LLC, Structure Removal, SEA ES/SR 13-070 | South Timbalier, Block 21, Lease OCS 00263, located 3 miles from the nearest Louisiana shoreline | 3/26/2013
Rooster Petroleum, LLC, Structure Removal, SEA ES/SR 04-135 | Eugene Island, Block 28, Lease OCS-G 05479, located 13 miles from the nearest Louisiana shoreline | 3/27/2013
Mariner Energy, Inc., Structure Removal, SEA ES/SR 11-219 | Eugene Island, Block 325, Lease OCS-G 05517, located 63 miles from the nearest Louisiana shoreline | 3/27/2013
Apache Corporation, Structure Removal, SEA ES/SR 11-163 | South Pass, Block 52, Lease OCS-G 23698, located 8 miles from the nearest Louisiana shoreline | 3/27/2013
Energy XXI GOM, LLC, Structure Removal, SEA ES/SR 13-073 | South Timbalier, Block 21, Lease OCS 00263, located 5 miles from the nearest Louisiana shoreline | 3/27/2013
Stone Energy Corporation, Structure Removal, SEA ES/SR 13-077 | West Cameron, Block 45, Lease OCS-G 00300, located 4 miles from the nearest Louisiana shoreline | 3/27/2013
JX Nippon Oil Exploration (U.S.A.) Limited, Structure Removal, SEA ES/SR 12-096 | West Cameron, Block 551, Lease OCS-G 02555, located 95 miles from the nearest Louisiana shoreline | 3/27/2013
McMoRan Oil & Gas LLC, Structure Removal, SEA ES/SR 13-085 | Brazos, Block A23, Lease OCS-G 32731, located 35 miles from the nearest Texas shoreline | 3/28/2013
McMoRan Oil & Gas LLC, Structure Removal, SEA ES/SR 13-080 | Mustang Island, Block 782, Lease OCS-G 10147, located 26 miles from the nearest Texas shoreline | 3/28/2013
Union Oil Company of California, Structure Removal, SEA ES/SR 13-079 | West Cameron, Block 197, Lease OCS-G 03264, located 31 miles from the nearest Louisiana shoreline | 3/28/2013
McMoRan Oil & Gas LLC, Structure Removal, SEA ES/SR 13-088 | High Island, Block A472, Lease OCS-G 17182, located 82 miles from the nearest Texas shoreline | 3/29/2013
McMoRan Oil & Gas LLC, Structure Removal, SEA ES/SR 13-089 | South Marsh Island, Block 49, Lease OCS-G 00787, located 50 miles from the nearest Louisiana shoreline | 3/29/2013
ATP Oil & Gas Corporation, Structure Removal, SEA ES/SR 13-096 | South Timbalier, Block 77, Lease OCS-G 04827, located 18 miles from the nearest Louisiana shoreline | 3/29/2013
McMoRan Oil & Gas LLC, Structure Removal, SEA ES/SR 13-086 | West Cameron, Block 192, Lease OCS 00190, located 28 miles from the nearest Louisiana shoreline | 3/29/2013
McMoRan Oil & Gas LLC, Structure Removal, SEA ES/SR 13-083 | West Cameron, Block 294, Lease OCS-G 04090, located 28 miles from the nearest Louisiana shoreline | 3/29/2013

Persons interested in reviewing environmental documents for the proposals listed above or obtaining information about the SEAs and FONSIs prepared by the Gulf of Mexico OCS Region are encouraged to contact BOEM at the address or telephone listed in the FOR FURTHER INFORMATION CONTACT section.

Dated: April 12, 2013.
John L. Rodi
Regional Director Gulf of Mexico OCS Region.

[FR Doc. 2013-11079 Filed 5-9-13; 8:45 am]

BILLING CODE 4310-MR-P